DEPARTMENT OF JUSTICE

[OMB Number 1121-NEW]

Agency Information Collection Activities; Extension of a Currently Approved Collection; Comment Request: Equal Employment Opportunity Plan Certification and Short Form

ACTION: 30-Day Notice.

The U.S. Department of Justice (DOJ), Office of Justice Programs (OJP) will be submitting the following information collection request to the Office of Management and Budget (OMB) for review and approval in accordance with the Paperwork Reduction Act of 1995. The proposed information collection is published to obtain comments from the public and affected agencies. This proposed information collection was previously published in the Federal Register, Volume 77, Number 207, page 65204, on October 25, 2012, allowing for a 60-day comment period.

The purpose of this notice is to allow for an additional 30 days for public comment until February 7, 2013. This process is conducted in accordance with 5 CFR 1320.10.

Written comments and/or suggestions regarding the items contained in this notice, especially the estimated public burden and associated response time, should be directed to the Office of Management and Budget, Office of Information and Regulatory Affairs, Attention: Department of Justice Desk Officer, Washington, DC 20503. Additionally, comments may be submitted to OMB via facsimile to (202) 395-7285. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology; e.g., permitting electronic submission of responses.

Overview of This Information Collection

(1) Type of Information Collection: Revision of a currently approved collection.

(2) Title of the Form/Collection: Equal Employment Opportunity Plan Certification and Short Form.

(3) Agency form number, if any, and the applicable component of the Department sponsoring the collection: The Office for Civil Rights, Office of Justice Programs, United States Department of Justice, is sponsoring the collection.

(4) Affected public who will be asked or required to respond, as well as a brief abstract: Primary: State, and local, government instrumentalities. Other: For-profit Institutions. 28 CFR 42.301 et seq. authorizes the Department of Justice to collect information regarding employment practices from State or Local units of government, agencies of State and Local governments, and Private entities, institutions or organizations to which OJP, COPS or OVW extend Federal financial assistance.

(5) An estimate of the total number of respondents and the amount of time estimated for an average respondent to respond/reply: There are a total of 6371 respondents. It is estimated that it will take 1,290 respondents receiving a grant of $500,000 or more one hour to complete an Equal Employment Opportunity Plan Short Form and submit it to the Office of Justice Programs. In addition, an estimated 5,081 of respondents seeking grants ranging from $25,000 up to $500,000 will be required to complete Certification stating that they are maintaining a current Equal Employment Opportunity Plan on file and submit the certification to OJP. Completion and submission of the Certification will take ¼ hour.

(6) An estimate of the total public burden (in hours) associated with the collection: For the 6371 respondents, the total estimated burden hours on respondents would be 2,560 to complete the EEOP Short Form or Certification.

If additional information is required, contact Jerri Murray, Department Clearance Officer, United States Department of Justice, Justice Management Division, Policy and Planning Staff, Two Constitution Square, 145 N Street NE., Room 3W-1407B, Washington, DC 20530.

Dated: January 3, 2013.
Jerri Murray,
Department Clearance Officer for PRA, U.S. Department of Justice.

[FR Doc. 2013-00147 Filed 1-7-13; 8:45 am]

BILLING CODE 4410-18-P